NATIONAL SCIENCE FOUNDATION

Notice of Permit Applications Received Under the Antarctic Conservation Act of 1978 (P.L. 95-541)

AGENCY: National Science Foundation.

ACTION: Notice of Permit Applications Received under the Antarctic Conservation Act of 1978, P.L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 28, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: Permit Application No. 2005-005, Ron Naveen, President, Oceanites, Inc., P.O. Box 15259, Chevy Chase, MD 20825.

Activity for Which Permit is Requested: Enter Antarctic Specially Protected Area. The applicant plans to continue his work of conducting site surveys/censuses of heavily visited tourist sites located in the Antarctic Peninsula. Access to the sites will be via expedition tour ships and the Royal Navy vessel HMS Endurance. The applicant also plans to enter ASPA 128 (Western Shore of Admiralty Bay, King George Island), and ASPA 149 (Cape Shirreff, Livingston Island) on occasion when logistics considerations may necessitate a visit to, or coordination with, researchers working at those sites.

Location: Antarctica Peninsula visitor sites, ASPA 128—Western Shore of Admiralty Bay, King George Island, and ASPA 149—Cape Shirreff, Livingston Island.

Dates: September 1, 2004 to August 31, 2008.

2. Applicant: Permit Application No. 2005-006, Rudolf S. Scheltema, Biology Department, Woods Hole Oceanographic Institution, Woods Hole, MA 02543.

Activity for Which Permit is Requested: Introduce non-indigenous species to Antarctica. The applicant plans to import algal cultures (Thalassiorira pseudomonas, Isochrysis galbana, and Duneliella teriolecta) to be used in rearing the larvae of indigenous benthis invertebrates collected in Antarctic waters. The living larvae taken from Zooplankton samples are to be reared in the ship's laboratory using the three unicellular species of algae as a source of food. The study will deal with the identification of larvae and life history of benthic invertebrates in the region of the South Shetland Islands. After completion of the study the algal cultures will be disposed of by heat sterilization.

Location: South Shetland Islands region.

Dates: November 22, 2004 to December 23, 2004.

Nadene G. Kennedy,
Permit Officer, Office of Polar Programs.

[FR Doc. 04-11942 Filed 5-26-04; 8:45 am]

BILLING CODE 7555-01-M